DEPARTMENT OF JUSTICE

Notice of Lodging of Consent Decree Pursuant to the Comprehensive Environmental Response, Compensation, and Liability Act of 1980, As Amended

Consistent with Departmental policy, 28 CFR § 50.7, notice is hereby given that on January 7, 2003, a proposed consent decree in United States v. Town of Middletown, Civil Action No. 03-011T, was lodged with the United States District Court for the District of Rhode Island. This proposed consent decree resolves the United States' claims on behalf of the Department of the Interior (“DOI”) under the Comprehensive Environment Response, Compensation, and Liability Act (“CERCLA”), 42 U.S.C. 9601 et seq., against the Town of Middletown (“the Town”) for response costs that have been or will be incurred at the former Town of Middletown Landfill (“the Site”) located within and adjacent to the Saschuest Point National Wildlife Refuge, Rhode Island.

The constant decree requires the Town to pay $1.5 million to the United States as reimbursement for the past and future costs of the cleanup of the Site.

The Department of Justice will receive comments relating to the proposed Consent Decree for a period of thirty (30) days from the date of this publication. Comments should be addressed to the Assistant Attorney General, Environment and Natural Resources Division, Department of Justice, PO Box 7611, Washington, DC 20044, and should refer to United States v. Town of Middletown, D.J. Ref.# 90-11-3-07264.

The proposed consent decree may be examined at the office of the United States Attorney, Fleet Center, 50 Kennedy Plaza, 8th Floor, Providence, RI 02903, and at the Office of the Solicitor, U.S. Department of the Interior, 1849 C. St., NW., Washington, DC 20240-001 (contact John Seymour: (202) 219-3383). A copy of the proposed consent decree may also be obtained by mail from the Department of Justice Consent Decree Library, PO Box 7611, Washington, DC 20044. In requesting a copy, please enclose a check (there is a 25 cent per page reproduction cost) in the amount of $4.50 payable to the “U.S. Treasury.”

Ronald G. Gluck,
Assistant Chief, Environmental Enforcement Section, Environment & Natural Resources Division.

[FR Doc. 03-1584 Filed 1-23-03; 8:45 am]

BILLING CODE 4410-15-M